FEDERAL DEPOSIT INSURANCE CORPORATION

Sunshine Act Meeting

Pursuant to the provisions of the “Government in the Sunshine Act” (5 U.S.C. 552b), notice is hereby given that the Federal Deposit Insurance Corporation's Board of Directors met in open session at 9:59 a.m. on Tuesday, December 19, 2017, to consider the following matters:

Summary Agenda: Disposition of minutes of previous Board of Directors' Meetings.

Memorandum and resolution re: Civil Money Penalty Annual Inflation Adjustment.

Memorandum and resolution re: Modifications to the Statement of Policy for Section 19 of the Federal Deposit Insurance Act.

Summary reports, status reports, and reports of actions taken pursuant to authority delegated by the Board of Directors, and reports of the Office of Inspector General.

Discussion Agenda: Memorandum and resolution re: FDIC 2018 Operating Budget.

In calling the meeting, the Board determined, on motion of Vice Chairman Thomas M. Hoenig, seconded by Director Mick Mulvaney (Acting Director, Consumer Financial Protection Bureau), and concurred in by Chairman Martin J. Gruenberg, that Corporation business required its consideration of the matters on less than seven days' notice to the public; and that no earlier notice of the meeting than that previously provided on December 15, 2017, was practicable.

The meeting was held in the Board Room located on the sixth floor of the FDIC Building located at 550 17th Street NW, Washington, DC.

Dated: December 19, 2017.
Federal Deposit Insurance Corporation.
Robert E. Feldman,
Executive Secretary.

[FR Doc. 2017-27607 Filed 12-19-17; 4:15 pm]

BILLING CODE 6714-01-P